DEPARTMENT OF HEALTH AND HUMAN SERVICES

Food and Drug Administration

[Docket No. FDA-2008-D-0265]

Compliance Policy Guide Sec. 540.575 Fish—Fresh and Frozen—Adulteration Involving Decomposition (CPG 7108.05); Withdrawal

AGENCY: Food and Drug Administration, HHS.

ACTION: Notice.

SUMMARY: The Food and Drug Administration (FDA) is announcing the withdrawal of Compliance Policy Guide Sec. 540.575 Fish—Fresh and Frozen—Adulteration Involving Decomposition (CPG 7108.05) (CPG Sec. 540.575). This action is being taken because the guidance in CPG Sec. 540.575 relating to decomposition in fresh and frozen fish is not current.

DATES: The withdrawal is effective July 18, 2008.

ADDRESSES: Submit written requests for single copies of CPG Sec. 540.575 to the Division of Compliance Policy (HFC-230), Office of Enforcement, Office of Regulatory Affairs, Food and Drug Administration, 5600 Fishers Lane, Rockville, MD 20857. Send two self-addressed adhesive labels to assist that office in processing your request, or fax your request to 240-632-6861.

A copy of CPG Sec. 540.575 may be seen in the Division of Dockets Management (HFA-305), Food and Drug Administration, 5630 Fishers Lane, Room 1061, Rockville, MD 20852 between 9 a.m. and 4 p.m., Monday through Friday.

FOR FURTHER INFORMATION CONTACT: Robert D. Samuels, Center for Food Safety and Applied Nutrition (HFS-325), Food and Drug Administration, 5100 Paint Branch Pkwy, College Park, MD 20740-3835, 301-436-2300.

SUPPLEMENTARY INFORMATION: FDA is withdrawing CPG Sec. 540.575 because the CPG does not provide FDA staff with current agency regulatory action guidance relating to decomposition in fresh and frozen fish.

FDA has developed a draft CPG Sec. 540.370 Fish and Fishery Products—Decomposition (draft CPG Sec. 540.370) to provide guidance for FDA staff relating to decomposition in fresh and frozen fish as well as other fishery products. Draft CPG Sec. 540.370, when final, will provide FDA staff with current regulatory action guidance. Draft CPG Sec. 540.370 is available for comment, as indicated in the notice published elsewhere in this issue of the Federal Register.

Dated: June 30, 2008.
Margaret O'K. Glavin,
Associate Commissioner for Regulatory Affairs.

[FR Doc. E8-16456 Filed 7-17-08; 8:45 am]

BILLING CODE 4160-01-S